DEPARTMENT OF THE INTERIOR

[NPS-WASO-CONC-12180; PPMVSCS1Y.Y00000; PPWOBSADC0]

Notice of Public Meeting: Concessions Management Advisory Board

AGENCY: National Park Service, Interior.

ACTION: Notice of public meeting.

SUMMARY: Notice is hereby given in accordance with the Federal Advisory Committee Act that the 26th meeting of the Concessions Management Advisory Board (the Board) will be held as indicated below.

DATES: The meeting will be held March 20, 2013, at the Four Points by Sheraton, 1201 K Street NW., Washington, DC 20005, beginning at 9 a.m. Members of the public are invited to attend. A public comment period will be held.

FOR FURTHER INFORMATION CONTACT: Erica Chavis, National Park Service, Commercial Services Program, 1201 Eye Street NW., Washington, DC 20005, Telephone: 202/513-7156.

SUPPLEMENTARY INFORMATION: The Board was established by Title IV, Section 409 of the National Parks Omnibus Management Act of 1998, November 13, 1998 (Pub. L. 105-391). The purpose of the Board is to advise the Secretary and the National Park Service on matters relating to management of concessions in the National Park System. The members of the Advisory Board are: Dr. James J. Eyster, Ms. Ramona Sakiestewa, Mr. Richard Linford, and Ms. Michele Michalewicz.

Topics that will be presented during the meeting include:

• General Commercial Services Program Updates

• Concession Contracting Status Update

• Standards, Evaluations, and Rate Approval Project Update

• Simplifying Contract Management and the Proposal Process

• Incentive Programs for Concessioners

• Innovative Visitor Services

• Public Comment—Limited to 3 minutes per person

The meeting will be open to the public, however, facilities and space for accommodating members of the public are limited, and persons will be accommodated on a first-come-first-served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time. Such requests should be made to the Director, National Park Service, Attention: Chief, Commercial Services Program, at least 7 days prior to the meeting. Draft minutes of the meeting will be available for public inspection approximately 6 weeks after the meeting, at the Commercial Services Program office located at 1201 Eye Street NW., 11th Floor, Washington, DC.

Before including your address, phone number, email address, or other personal identifying information in your comment, you should be aware that your entire comment—including your personal identifying information—may be made publicly available at any time. While you can ask us in your comment to withhold your personal identifying information from public review, we cannot guarantee that we will be able to do so.

Dated: February 7, 2013.
Lena McDowall,
Associate Director, Business Services.

[FR Doc. 2013-03455 Filed 2-13-13; 8:45 am]

BILLING CODE 4312-53-P